DEPARTMENT OF THE INTERIOR

Bureau of Land Management

[WO-310-1310-PB-24 1A]

Extension of Approved Information Collection, OMB Control Number 1004-0160

AGENCY: Bureau of Land Management, Interior.

ACTION: Notice and request for comments.

SUMMARY: In accordance with the Paperwork Reduction Act of 1995, the Bureau of Land Management (BLM) is requesting the Office of Management and Budget (OMB) to extend an existing approval to collect certain information from geothermal lessees to determine if the lessee qualifies for least extensions. We collect nonform information under 43 CFR Part 3208 to determine if a lessee is making diligent and bona fide efforts to utilize and produce geothermal resources.

DATES: You must submit your comments to BLM at the address below on or before April 11, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0160” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Barbara Gamble on (202) 452-0338 (Commercial or FTS). Persons who use a telecommunications device for the deaf (TDD) may call the Federal Information Relay Service at 1-800-877-8330, 24 hours a day, seven days a week, to contact Ms. Gamble.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Geothermal Steam Act of 1970 (30 U.S.C. 1001-1025) as amended, authorizes the Secretary of the Interior to issue leases for geothermal development. The legislation allows for lease extensions when the Secretary of the Interior determines a lessee made a substantial investment to develop the geothermal resources. It also allows leases to continue beyond the primary terms if there are wells capable of producing geothermal resources. The regulations 43 CFR 3208 specifically address extended lease terms. Lessees may request a lease extension beyond the primary term by: drilling, diligent efforts, production of byproducts, and unit commitment. We use the nonform information to determine if a lessee qualifies to extend its geothermal lease. The lessee submits the following nonform reports, as needed, to support a lease extension:

(1) Diligent Efforts Report—This report includes a description of negotiations for sales contracts, marketing agreements, and planned or conducted operations to define geothermal resources;

(2) Bona Fide Efforts Report—This report includes:

(a) Operations conducted during the primary term of the lease and currently in progress to identify and define the geothermal resource, including a summary of results on those operations;

(b) Actions completed in support of operations, including obtaining permits, environmental studies, or meeting permit requirements, or other related activities;

(c) Actions completed during the primary term of the lease and currently in progress to negotiate marketing agreements, sales contracts, drilling agreements, financial arrangements, electric transmission or wheeling arrangements, or other related actions; and

(d) Current economic factors and conditions that affect the lessee's efforts to produce or utilize geothermal steam in commercial quantities.

(3) Significant Expenditures Report—This report includes:

(a) Expenditures to conduct actual drilling operations on the lease;

(b) Expenditures for road or generating facilities construction on the lease;

(c) Architectural or engineering services procured for the design of generating facilities located on the lease; and

(d) Environmental studies required by State or Federal law. BLM does not require the lessee to submit this report if they choose to make payments in lieu of commercial quantities production.

Based on our experience administering the activities described above, we estimate the public reporting burden for each report is two hours per response. The respondents include individuals, small business, and large corporation. We estimate 75 responses per year and a total annual burden of 150.

BLM will summarize all responses to this notice and include them in the request for OMB approval. All comments will become a matter of public record.

Dated: February 5, 2003.
Michael H. Schwartz,
Bureau of Land Management, Information Collection Clearance Officer.

[FR Doc. 03-3261 Filed 2-7-03; 8:45 am]

BILLING CODE 4310-84-M